DEPARTMENT OF VETERANS AFFAIRS

[OMB Control No. 2900-0850]

Agency Information Collection Activity Under OMB Review: Requirements for Recognition as a VA Accredited Organization

AGENCY: Office of General Counsel, Department of Veterans Affairs.

ACTION: Notice.

SUMMARY: In compliance with the Paperwork Reduction Act (PRA) of 1995, this notice announces that the Office of General Counsel (OGC), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0850”.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0850” in any correspondence.

SUPPLEMENTARY INFORMATION:

Authority: 38 U.S.C. 5902; 38 CFR 14.628.

Title: Requirements for Recognition as a VA Accredited Organization.

OMB Control Number: 2900-0850.

Type of Review: Extension of a currently approved collection.

Abstract: In order for an organization to provide representation to claimants before VA regarding claims for VA benefits, the organization must be recognized by VA for that purpose. Section 5902(a) of title 38, United States Code, authorizes VA to recognize organizations for the limited purpose of ensuring competent representation of veterans in claims for benefits administered by VA. VA implemented this authority in 38 CFR 14.628. An organization must apply for VA recognition, supplying information as specified in section 14.628 to demonstrate that it satisfies the legal requirements for recognition. (Organizations may provide services to veterans without VA recognition if the services do not include the preparation, presentation, and prosecution of claims for VA benefits.) The information submitted by the organizations in conjunction with a request for recognition is used by VA in reviewing accreditation applications to determine whether organizations meet the requirements for VA recognition under section 14.628. VA relies on this information to ensure that it is granting recognition only to organizations that can provide long-term, competent representation to VA claimants.

An agency may not conduct or sponsor, and a person is not required to respond to a collection of information unless it displays a currently valid OMB control number. The Federal Register Notice with a 60-day comment period soliciting comments on this collection of information was published at: Vol. 88, No. 155, Monday, August 14, 2023, page 55124 (88 FR 55124).

Affected Public: Individuals, not-for-profit institutions, and state, local, or tribal governments.

Estimated Annual Burden: 50 hours.

Estimated Average Burden per Respondent: 5 hours.

Frequency of Response: One time.

Estimated Number of Respondents: 10.

By direction of the Secretary.
Maribel Aponte,
VA PRA Clearance Officer, Office of Enterprise and Integration, Data Governance Analytics, Department of Veterans Affairs.

[FR Doc. 2023-23066 Filed 10-18-23; 8:45 am]

BILLING CODE 8320-01-P